FEDERAL COMMUNICATIONS COMMISSION

Public Information Collection Approved by Office of Management and Budget

AGENCY: Federal Communications Commission.

ACTION: Notice.

SUMMARY: The Federal Communications Commission (FCC) has received Office of Management and Budget (OMB) approval for the following public information collection pursuant to the Paperwork Reduction Act of 1995, Pub. L. 104-13.

DATES: Written comments should be submitted on or before October 15, 2003. If you anticipate that you will be submitting comments, but find it difficult to do so within the period of time allowed by this notice, you should advise the contacts listed below as soon as possible.

ADDRESSES: Kim A. Johnson, Office of Management and Budget, Room 10236 NEOB, Washington, DC 20503, (202) 395-7232 or Kim_A._Johnson@omb.eop.gov; or Les Smith, Federal Communications Commission, 445 12th Street, Room 1-A804, Washington DC, 20554, (202) 418-0217 or Leslie.Smith@fcc.gov.

Paperwork Reduction

OMB Control No: 3060-0095.

Expiration Date: 01/31/2004.

Title: Cable Television Annual Employment Report, FCC Form 395-A.

Form No: 395-A.

Respondents: Operators of cable/television units.

Number of Respondents: 1,950.

Total Annual Burden: 3,128 hours.

Total Annual Cost: 0.

Description: FCC Form 395-A collects information on full-time and part-time paid employees.

In order to reduce reporting and recordkeeping burdens, it is intentionally the same as the workforce profile collected by the U.S. Equal Employment Opportunity Commission, Employer Report Form (EEO-1). EEOC has proposed modifications to the EEO-1 Form (68 FR 34965, June 11, 2003). Any changes to the EEO-1 Form should be reflected in changes to FCC Form 395-A.

OMB Control No: 3060-0390.

Expiration Date: 01/31/2004.

Title: Broadcast Station Annual Employment Report, FCC Form 395-B.

Form No: 395-B.

Respondents: Licensees and permittees of broadcast stations.

Number of Respondents: 14,400.

Total Annual Burden: 12,320 hours.

Total Annual Cost: 0.

Description: FCC Form 395-B collects information on full-time and part-time paid employees. In order to reduce reporting and recordkeeping burdens, it is intentionally the same as the workforce profile collected by the U.S. Equal Employment Opportunity Commission, Employer Report Form (EEO-1). EEOC has proposed modifications to the EEO-1 Form (68 FR 34965, June 11, 2003). Any changes to the EEO-1 Form should be reflected in changes to FCC Form 395-B.

Federal Communications Commission.
Marlene H. Dortch,
Secretary.

[FR Doc. 03-23402 Filed 9-12-03; 8:45 am]

BILLING CODE 6712-01-P